DEPARTMENT OF STATE

[Public Notice 8984]

Shipping Coordinating Committee; Notice of Committee Meeting

The Shipping Coordinating Committee (SHC) will conduct an open meeting at 9:30 a.m. on Wednesday, January 14, 2015 in the Oklahoma Room of the U.S. Department of Transportation Headquarters, 1200 New Jersey Ave. SE., Washington, DC 20590. The primary purpose of the meeting is to prepare for the second Session of the International Maritime Organization's (IMO) Sub-Committee on Pollution Prevention and Response (PPR 2) to be held at the IMO Headquarters, United Kingdom, February 19-23, 2015.

The agenda items to be considered include:

—Decisions of other IMO bodies

—Safety and pollution hazards of chemicals and preparation of consequential amendments to the IBC Code, taking into account recommendations of GESAMP-EHS

—Code for the transport and handling of limited amounts of hazardous and noxious liquid substances in bulk on offshore support vessels

—Guidelines for port State control under the 2004 BWM Convention, including guidance on ballast water sampling and analysis

—Production of a manual entitled “Ballast Water Management—How to do it”

—Improved and new technologies approved for ballast water management systems and reduction of atmospheric pollution

—Consideration of the impact on the Arctic of emissions of Black Carbon from international shipping

—Revised guidelines for the Inventory of Hazardous Materials

—Guidance for international offers of assistance in response to a marine oil pollution incident

—Revised section II of the Manual on oil pollution contingency planning

—Guide on oil spill response in ice and snow conditions

—Updated IMO Dispersant Guidelines

—Updated OPRC Model training courses

—Unified interpretation to provisions of IMO environment-related Conventions

—Guidelines pertaining to equivalent methods set forth in regulation 4 of MARPOL Annex VI and not covered by other guidelines

—Guidelines as called for under paragraph 2.2.5.6 of the revised NOX Technical Code 2008 (NOX-reducing devices)

—Biennial agenda and provisional agenda for PPR 3

—Election of Chairman and Vice-Chairman for 2016

—Any other business

—Report to the Marine Environment Protection Committee

Members of the public may attend this meeting up to the seating capacity of the room. They may also contact the meeting coordinator to request a call-in number, in order to ensure adequate teleconference capacity, or to submit written comments and related material ahead of time. To facilitate the building security process, and to request reasonable accommodation, those who plan to attend should contact the meeting coordinator, Ms. Regina Bergner, by email at regina.r.bergner@uscg.mil, by phone at 202-372-1431, or by fax at (202) 372-8383, not later than January 5, 2015, or 9 days prior to the meeting. Requests made after January 5, 2015 might not be able to be accommodated.

Please note that due to security considerations, two valid, government-issued photo identifications must be presented to gain entrance to the building. Directions to DOT Headquarters may be found at: http://www.dot.gov/directions. Additional information regarding this and other IMO SHC public meetings may be found at: www.uscg.mil/imo.

Dated: December 18, 2014.
Marc Zlomek,
Executive Secretary, Shipping Coordinating Committee, Department of State.

[FR Doc. 2014-30236 Filed 12-23-14; 8:45 am]

BILLING CODE 4710-09-P